DEPARTMENT OF HOMELAND SECURITY

Coast Guard

[USCG-2004-17080]

Local Notices to Mariners—Changes in Distribution Methods

AGENCY: Coast Guard, DHS.

ACTION: Notice.

SUMMARY: The Coast Guard is changing the way in which we make Local Notices to Mariners available to the public. We will continue to publish electronic versions of these notices and make them available free of charge via the Internet, but we will no longer print and mail copies of each notice.

DATES: This change takes effect April 1, 2004.

ADDRESSES: Although we are not requesting them, you may make comments on this change. To make sure that your comments and related material are not entered more than once in the docket, please submit them by only one of the following means:

(1) Electronically through the Web site for the Docket Management System at http://dms.dot.gov.

(2) By mail to the Docket Management Facility, (USCG-2004-17080), U.S. Department of Transportation, room PL-401, 400 Seventh Street SW., Washington, DC 20590-0001.

(3) By fax to the Docket Management Facility at 202-493-2251.

(4) By delivery to room PL-401 on the Plaza level of the Nassif Building, 400 Seventh Street SW., Washington, DC, between 9 a.m. and 5 p.m., Monday through Friday, except Federal holidays. The telephone number is 202-366-9329.

The Docket Management Facility maintains the public docket for this notice. Comments and material received from the public will become part of this docket and will be available for inspection or copying at room PL-401 on the Plaza level of the Nassif Building, 400 Seventh Street SW., Washington, DC, between 9 a.m. and 5 p.m., Monday through Friday, except Federal holidays. You may also find this docket on the Internet at http://dms.dot.gov.

FOR FURTHER INFORMATION CONTACT: For further information about the substance of this notice, contact Mr. Frank Parker, Office of Aids to Navigation, Commandant (G-OPN), U.S. Coast Guard, 2100 Second Street, SW., Washington DC 20593; telephone (202) 267-0358, fax (202) 267-4222, e-mail fparker@comdt.uscg.mil. If you have questions on viewing or submitting material to the docket, call Andrea M. Jenkins, Program Manager, Docket Operations, telephone 202-366-0271.

SUPPLEMENTARY INFORMATION: The Coast Guard has statutory and treaty obligations to make navigation information available to the public. Local Notices to Mariners (LNMs) are our primary means for communicating information pertaining to individual Coast Guard Districts. LNMs provide important safety information that is available nowhere else, and are distributed free of charge to subscribers. However, the cost of printing and mailing LNMs has become prohibitive. Technology now allows us to provide LNMs in a more timely and less costly manner via the Internet. The Coast Guard has published electronic (Internet) LNMs successfully for several years. Electronic LNMs appear on the Coast Guard Navigation Center's Web site at http://www.navcen.uscg.gov/lnm/default.htm. Recently, we revised our Aids to Navigation (ATON) Manual (COMDTINST M16500.7) to authorize elimination of printed LNMs. The last printed LNMs will be distributed April 1, 2004.

LNMs are referred to in two Coast Guard regulations, 33 CFR 62.21 and 33 CFR subpart 72.01. They relate to Coast Guard agency management and, under the Administrative Procedure Act (5 U.S.C. 551 et seq.), they can be amended without public notice and comment. We expect to revise these regulations to eliminate obsolete references to print distribution, as part of our forthcoming 2004 technical amendments to Title 33 of the CFR. Moreover, insofar as these regulations pertain to LNMs, they are general policy statements without binding effect either on the public or on the Coast Guard. We intend the present Notice, along with the notices we will convey directly to our LNM print and electronic subscribers, to inform the public of the Coast Guard policy change eliminating printed distribution of LNMs, which was effected through revision of our ATON Manual.

Dated: February 20, 2004.
Jeffrey J. Hathaway,
Rear Admiral, U.S. Coast Guard, Director of Operations Policy.

[FR Doc. 04-4579 Filed 3-1-04; 8:45 am]

BILLING CODE 4910-15-P